ENVIRONMENTAL PROTECTION AGENCY

[EPA-HQ-OAR-2007-1121; FRL-9983-20-OAR]

Proposed Information Collection Request; Comment Request; Recordkeeping and Reporting Requirements for Diesel Fuels (Renewal)

AGENCY: Environmental Protection Agency (EPA).

ACTION: Notice.

SUMMARY: The Environmental Protection Agency is planning to submit an information collection request (ICR), “Recordkeeping and Reporting Requirements for Diesel Fuels” (EPA ICR No 1718.11, OMB Control No. 2060-0308) to the Office of Management and Budget (OMB) for review and approval in accordance with the Paperwork Reduction Act. Before doing so, EPA is soliciting public comments on specific aspects of the proposed information collection as described below. This is a proposed extension of the ICR, which is currently approved through March 31, 2019. An Agency may not conduct or sponsor and a person is not required to respond to a collection of information unless it displays a currently valid OMB control number.

DATES: Comments must be submitted on or before November 5, 2018.

ADDRESSES: Submit your comments, referencing Docket ID No. EPA-HQ-OAR-2007-1121, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, 6405A, Environmental Protection Agency, 1200 Pennsylvania Ave. NW, Washington, DC 20460; telephone number: 202-343-9303; fax number: 202-343-2802; email address: caldwell.jim@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR renewal is related to EPA's diesel fuel regulations under 40 CFR part 80, Subpart I, applicable to highway (motor vehicle) diesel fuel and non-road, locomotive and marine diesel fuel (NRLM), Emission Control Area (ECA) marine fuel, and heating oil. Most of the information collected under this ICR is used to evaluate compliance with the requirements of the regulations. Motor vehicle diesel fuel and just about all NRLM diesel fuel now meet a 15 part per million sulfur standard. The activities associated with this ICR include: registration (new refiners and importers, updates to existing registrations); submission of corrections to prior compliance reports; granting of research and development exemptions; generation and retention of quality assurance records; general recordkeeping; batch testing for sulfur content; and the production of product transfer documents and pump labels.

Form numbers: Only ECA0300 and DLQ001 are active. There may be resubmissions of the others.

DSF0100 Form: Diesel Fuel Sulfur Credit Banking and Generation Report—5900-334

DSF0200 Form: Diesel Fuel Sulfur Credit Transfer/conversion Report—5900-333

ECA0300 Form: ECA Marine Fuel Precision Demonstration—5900-352

DSF0302 Form: Diesel Fuel Sulfur Facility Summary Report—5900-323

DSF0401 Form: Diesel Fuel Sulfur Batch Report—5900-324

DSF0504 Form: Designated and Track Handoff Report—5900-325

DSF0601 Form: Designate and Track Total Volume Report—5900-326

DSF0700 Form: Designate Track Facility Compliance Calculation Report—5900-327

DSE0700 Form: Designate and Track Entity Compliance Calculation Report—5900-328

DSE0900 Form: Motor Vehicle Diesel Sulfur Pre-Compliance Report—5900-329

DSF0951 Form: NRLM Diesel Sulfur Pre-Compliance Report—5900-350

DLQ001 Form: (Used for lab test method)—EPA-420-B-14-066a

Respondents/affected entities: Parties involved with diesel fuels.

Respondent's obligation to respond: Mandatory.

Estimated number of respondents: 7,900 (total).

Frequency of response: On occasion.

Total estimated burden: 28,450 hours (per year). Burden is defined at 5 CFR 1320.03(b).

Total estimated cost: $3,300,200 (per year), includes $0 annualized capital or operation & maintenance costs.

Changes in estimates: There is an increase of 17,372 hours in the total estimated respondent burden compared with the ICR currently approved by OMB. This increase is due to burdens that were not addressed in the current ICR, such as product transfer documents, the testing of each batch of diesel fuel for sulfur content, and labels on pumps that dispense hearing oil and certain offroad diesel fuels.

Dated: August 23, 2018.
Byron J. Bunker,
Director, Compliance Division, Office of Transportation and Air Quality, Office of Air and Radiation.

[FR Doc. 2018-19154 Filed 8-31-18; 8:45 am]

BILLING CODE 6560-50-P